DEPARTMENT OF THE TREASURY

Office of Foreign Assets Control

Unblocking of Specially Designated Nationals and Blocked Persons Pursuant to Executive Order 12978

AGENCY: Office of Foreign Assets Control, Treasury.

ACTION: Notice.

SUMMARY: The Department of the Treasury's Office of Foreign Assets Control (OFAC) is publishing the names of individuals and entities whose property and interests in property have been unblocked pursuant to Executive Order 12978 of October 21, 1995, “Blocking Assets and Prohibiting Transactions With Significant Narcotics Traffickers”. Additionally, OFAC is publishing an update to the identifying information of three individuals currently included in the list of Specially Designated Nationals and Blocked Persons (SDN List).

DATES: The unblocking and removal from the SDN List of the 5 individuals and 17 entities and the update of three individuals identified in this notice whose property and interests in property were blocked pursuant to Executive Order 12978 of October 21, 1995, is effective on January 7, 2016.

FOR FURTHER INFORMATION CONTACT: Assistant Director, Sanctions Compliance & Evaluation, Department of the Treasury, Office of Foreign Assets Control, Washington, DC 20220, Tel: (202) 622-2490.

SUPPLEMENTARY INFORMATION:

Electronic and Facsimile Availability

This document and additional information concerning OFAC are available from OFAC's Web site (www.treasury.gov/ofac) or via facsimile through a 24-hour fax-on demand service at (202) 622-0077.

Background

On October 21, 1995, the President, invoking the authority, inter alia, of the International Emergency Economic Powers Act (50 U.S.C. 1701-1706) (IEEPA), issued Executive Order 12978 (60 FR 54579, October 24, 1995) (the Order). In the Order, the President declared a national emergency to deal with the threat posed by significant foreign narcotics traffickers centered in Colombia and the harm that they cause in the United States and abroad.

Section 1 of the Order blocks, with certain exceptions, all property and interests in property that are in the United States, or that hereafter come within the United States or that are or hereafter come within the possession or control of United States persons, of: (1) The foreign persons listed in an Annex to the Order; (2) any foreign person determined by the Secretary of Treasury, in consultation with the Attorney General and the Secretary of State: (a) To play a significant role in international narcotics trafficking centered in Colombia; or (b) to materially assist in, or provide financial or technological support for or goods or services in support of, the narcotics trafficking activities of persons designated in or pursuant to the Order; and (3) persons determined by the Secretary of the Treasury, in consultation with the Attorney General and the Secretary of State, to be owned or controlled by, or to act for or on behalf of, persons designated pursuant to the Order.

On January 7, 2016 the Associate Director of the Office of Global Targeting removed from the SDN List the individuals and entities listed below, whose property and interests in property were blocked pursuant to the Order:

Individuals

1. CARDONA OCHOA, Carlos Julio, c/o GRUPO SANTA LTDA., Cali, Colombia; c/o AUREAL INMOBILIARIA LTDA., Bogota, Colombia; DOB 22 Sep 1954; Cedula No. 7524996 (Colombia) (individual) [SDNT].

2. ESTRADA URIBE, Octavio, c/o GRUPO SANTA LTDA., Cali, Colombia; c/o SOCIEDAD CONSTRUCTORA LA CASCADA S.A., Cali, Colombia; DOB 07 Oct 1954; Cedula No. 19258562 (Colombia) (individual) [SDNT].

3. LOPERA BARBOSA, Adriana, c/o ASESORIA Y SOLUCIONES GRUPO CONSULTOR S.A., Cali, Colombia; c/o CONSULTORIA INTEGRAL Y ASESORIA EMPRESARIAL S.A., Cali, Colombia; c/o INVERSIONES EPOCA S.A., Cali, Colombia; c/o J.A.J. BARBOSA Y CIA. S.C.S., Cali, Colombia; Calle 1A No. 60-61 apto. 205B, Cali, Colombia; DOB 21 Jun 1965; POB Cali, Colombia; Cedula No. 31930002 (Colombia); Passport AG820191 (Colombia) (individual) [SDNT].

4. TORRES CORTES, Joselin, c/o AUREAL INMOBILIARIA LTDA., Bogota, Colombia; DOB 26 Jul 1957; Cedula No. 19482747 (Colombia) (individual) [SDNT].

5. TREJOS AGUILAR, Melba, Calle 25 No. 35-66, Tulua, Valle, Colombia; Cedula No. 29991503 (Colombia) (individual) [SDNT].

Entities

1. CIDCA (a.k.a. CENTRO INVESTIGACION DOCENCIA Y CONSULTORIA ADMINISTRATIVA), Calle 61 No. 11-09 Chapinero, Bogota, Colombia; Carrera 5 No. 23-16, Bogota, Colombia; NIT #860404579-7 (Colombia) [SDNT].

2. AUREAL INMOBILIARIA LTDA., Avenida 7 No. 112-38 of. 104, Bogota, Colombia [SDNT].

3. CARS & CARS LTDA. (a.k.a. CARS AND CARS LTDA.; a.k.a. CENTRO COMERCIAL DEL AUTOMOVIL; a.k.a. COMERCIALIZADORA INTEGRAL LTDA.; a.k.a. PROYECTO CARS & CARS; a.k.a. PROYECTO CARS AND CARS), Avenida Roosevelt entre carreras 38 y 38A esquinas, Cali, Colombia [SDNT].

4. CAUCALITO LTDA. (f.k.a. GANADERA; f.k.a. GANADERIA LTDA.), Apartado Aereo 10077, Cali, Colombia; Carrera 4 12-41 of. 1403, Edificio Seguros Bolivar, Cali, Colombia; NIT #800029160-9 (Colombia) [SDNT].

5. CONSTRUCCIONES ASTRO S.A. (f.k.a. CONSTRUCTORA CASCADA; f.k.a. SOCIEDAD CONSTRUCTORA LA CASCADA S.A.), Carrera 4 No. 12-41 of. 1402, Edificio Seguros Bolivar, Cali, Colombia; Calle 1A 62A-120 2305, Cali, Colombia; Apartado Aereo 10077, Cali, Colombia; Calle 1A 62A-120 4114, Cali, Colombia; Calle 1A 62A-120 2418, Cali, Colombia; Carrera 64 1B-83, Cali, Colombia; Carrera 4 No. 12-41 of. 1401, Cali, Colombia; Carrera 4 No. 12-41 of. 1403, Cali, Colombia; Carrera 64 1C-63, Cali, Colombia; Calle 13 3-22 piso 12 y piso 14, Cali, Colombia; Calle 1A 62A-120 6245, Cali, Colombia; Calle 1A 62A-120, Cali, Colombia; Calle 1A 62A-120 B2 108, Cali, Colombia; NIT #890307311-4 (Colombia) [SDNT].

6. GRUPO SANTA LTDA., Carrera 4 12-41 piso 14 y 15, Edificio Seguros Bolivar, Cali, Colombia; Calle 18 106-98 of. 201/202, Cali, Colombia; Carrera 84 17-29, Cali, Colombia [SDNT].

7. HACIENDA LA NOVILLERA (a.k.a. NOVILLERA; a.k.a. NOVILLERA GANADERA), Carrera 4 12-41 piso 15, Edificio Seguros Bolivar, Cali, Colombia; Paso de la Bolsa, Jamundi, Valle del Cauca, Cali, Colombia [SDNT].

8. HACIENDA SANDRANA (a.k.a. SANDRANA GANADERA; a.k.a. SANDRANDA), Carrera 4 12-41 piso 15, Edificio Seguros Bolivar, Cali, Colombia; San Pedro, Valle del Cauca, Colombia [SDNT].

9. INMOBILIARIA AURORA LTDA., Carrera 24F Oeste 3-70, Cali, Colombia; Avenida Canasgordas con Avenida Guali Casa 35, Cali, Colombia; Carrera 4 12-41 piso 15, Edificio Seguros Bolivar, Cali, Colombia; Carrera 38A No. 5E-31, Edificio Conquistadores, Cali, Colombia [SDNT].

10. INTERCREDITOS S.A. (a.k.a. INTERCREDITOS BOGOTA; a.k.a. INTERCREDITOS CALI), Bogota, Colombia; Avenida Roosevelt No. 38-32, piso 2, Cali, Colombia [SDNT].

11. INVERSIONES INTEGRAL Y CIA., Calle 16B No. 114-80 Casa 2, Cali, Colombia; Carrera 2 Oeste 5-46 apt/of 503, Cali, Colombia [SDNT].

12. INVERSIONES SANTA LTDA. (f.k.a. INVERSIONES Y CONSTRUCCIONES SANTA LIMITADA), Calle 5 66B-49 piso 3, Cali, Colombia; Calle 13 3-32 piso 14, Cali, Colombia; Calle 5 Oeste 3A-26 apt/of 103, 301, 404, 502, 503, Cali, Colombia; Calle 7 Oeste 25-48, Cali, Colombia; Calle 9 No. 46-69 Of. 302, Cali, Colombia; Carrera 4 12-41 piso 14, Edificio Seguros Bolivar, Cali, Colombia; Carrera 2 Oeste 5-46 of 502, Cali, Colombia; Carrera 4 12-41 piso 15, Edificio Seguros Bolivar, Cali, Colombia [SDNT].

13. PREVIA S.A. (a.k.a. PREVENCION Y ANALISIS DE RIESGOS), Carrera 3 No. 12-40 of. 504, Cali, Colombia; Carrera 3 No. 10-20 of. 202, Cali, Colombia [SDNT].

14. SAMARIA ARRENDAMIENT, Cali, Colombia [SDNT].

15. SAMARIA CANAS, Cali, Colombia [SDNT].

16. SAMARIA INTERESES, Cali, Colombia [SDNT].

17. SAMARIA TIERRAS, Cali, Colombia [SDNT].

18. SANDRANA CANAS, Cali, Colombia [SDNT].

Additionally, on January 7, 2016, the Associate Director of the Office of Global Targeting updated the SDN record for three individuals listed below, whose property and interests in property continue to be blocked pursuant to the Order:

Individuals

1. BARRERA MARIN, Alvaro, c/o APVA S.A., Cali, Colombia; c/o BARRERA RIOS NEGOCIOS INMOBILIARIOS E.U., Cali, Colombia; c/o CECEP EDITORES S.A., Cali, Colombia; c/o CECEP S.A., Cali, Colombia; c/o CIDCA, Bogota, Colombia; c/o COMERCIALIZADORA DE BIENES Y SERVICIOS ADMINISTRATIVOS Y FINANCIEROS S.A., Cali, Colombia; c/o ENSAMBLADORA COLOMBIANA AUTOMOTRIZ S.A., Barranquilla, Colombia; c/o NEGOCIOS Y CAPITALES S.A., Pereira, Colombia; c/o WORLD LINE SYSTEM S.A., Palmira, Valle, Colombia; Calle 56D No. 28B-73, Barrio Las Mercedes, Palmira, Valle, Colombia; DOB 21 Nov 1940; POB Sevilla, Valle, Colombia; Cedula No. 6451857 (Colombia); Passport AG003135 (Colombia) (individual) [SDNT].

-to-

BARRERA MARIN, Alvaro, c/o APVA S.A., Cali, Colombia; c/o BARRERA RIOS NEGOCIOS INMOBILIARIOS E.U., Cali, Colombia; c/o CECEP EDITORES S.A., Cali, Colombia; c/o CECEP S.A., Cali, Colombia; c/o COMERCIALIZADORA DE BIENES Y SERVICIOS ADMINISTRATIVOS Y FINANCIEROS S.A., Cali, Colombia; c/o ENSAMBLADORA COLOMBIANA AUTOMOTRIZ S.A., Barranquilla, Colombia; c/o NEGOCIOS Y CAPITALES S.A., Pereira, Colombia; c/o WORLD LINE SYSTEM S.A., Palmira, Valle, Colombia; Calle 56D No. 28B-73, Barrio Las Mercedes, Palmira, Valle, Colombia; DOB 21 Nov 1940; POB Sevilla, Valle, Colombia; Cedula No. 6451857 (Colombia); Passport AG003135 (Colombia) (individual) [SDNT].

2. CAVIEDES CRUZ, Leonardo, c/o INVERSIONES SANTA LTDA., Cali, Colombia; Calle 21 Norte No. 3N-84, Cali, Colombia; c/o CAVIEDES DILEO Y CIA S.C.S., Cali, Colombia; DOB 23 Nov 1952; Cedula No. 16593470 (Colombia); Passport AB151486 (Colombia); alt. Passport AC444270 (Colombia); alt. Passport OC444290 (Colombia) (individual) [SDNT].

-to-

CAVIEDES CRUZ, Leonardo, Calle 21 Norte No. 3N-84, Cali, Colombia; c/o CAVIEDES DILEO Y CIA S.C.S., Cali, Colombia; DOB 23 Nov 1952; Cedula No. 16593470 (Colombia); Passport AB151486 (Colombia); alt. Passport AC444270 (Colombia); alt. Passport OC444290 (Colombia) (individual) [SDNT].

3. SANTACRUZ CASTRO, Ana Milena, c/o SOCIEDAD CONSTRUCTORA LA CASCADA S.A., Cali, Colombia; c/o AUREAL INMOBILIARIA LTDA., Bogota, Colombia; c/o INMOBILIARIA SAMARIA LTDA., Cali, Colombia; c/o SAMARIA LTDA., Cali, Colombia; c/o INVERSIONES SANTA LTDA., Cali, Colombia; c/o COMERCIALIZACION Y FINANCIACION DE AUTOMOTORES S.A., Cali, Colombia; c/o INVERSIONES INTEGRAL LTDA., Cali, Colombia; c/o MIRALUNA LTDA., Cali, Colombia; c/o URBANIZACIONES Y CONSTRUCCIONES LTDA., DE CALI, Cali, Colombia; DOB 31 Mar 1965; Cedula No. 31929808 (Colombia); Passport 31929808 (Colombia); alt. Passport AB151189 (Colombia) (individual) [SDNT].

-to-

SANTACRUZ CASTRO, Ana Milena, c/o SOCIEDAD CONSTRUCTORA LA CASCADA S.A., Cali, Colombia; c/o COMERCIALIZACION Y FINANCIACION DE AUTOMOTORES S.A., Cali, Colombia; c/o INVERSIONES INTEGRAL LTDA., Cali, Colombia; c/o MIRALUNA LTDA., Cali, Colombia; c/o URBANIZACIONES Y CONSTRUCCIONES LTDA., DE CALI, Cali, Colombia; DOB 31 Mar 1965; Cedula No. 31929808 (Colombia); Passport 31929808 (Colombia); alt. Passport AB151189 (Colombia) (individual) [SDNT].

Dated: January 7, 2016.
Gregory T. Gatjanis,
Associate Director, Office of Global Targeting, Office of Foreign Assets Control.

[FR Doc. 2016-00477 Filed 1-12-16; 8:45 am]

BILLING CODE 4810-AL-P